DEPARTMENT OF LABOR

Employment and Training Administration

[TA-W-61,867]

Non-Metallic Components, Inc., Rib Lake, Notice of Revised Determination on Reconsideration

On November 8, 2007, the Department issued an Affirmative Determination Regarding Application on Reconsideration applicable to workers and former workers of the subject firm. The notice was published in the Federal Register on November 16, 2007 (72 FR 64685).

The previous investigation initiated on July 24, 2007, resulted in a negative determination issued on September 19, 2007, was based on the finding that imports of custom injection molded plastic parts did not contribute importantly to worker separations at the subject firm and no shift in production to countries that are Party to a Free Trade Agreements with the United States or beneficiary countries occurred. The denial notice was published in the Federal Register on October 3, 2007 (72 FR 56385).

In the request for reconsideration, the petitioner provided additional information regarding the subject firm's declining customers.

Based on the new information, the Department conducted a survey of a major declining customer regarding its purchases of like or directly competitive products with plastic parts manufactured by the subject firm. The survey revealed that the major declining customer increased imports of plastic parts during the relevant period.

In accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Non-Metallic Components, Inc., Rib Lake, Wisconsin, contributed importantly to the declines in sales or production and to the total or partial separation of workers at the subject firm. In accordance with the provisions of the Act, I make the following certification:

“All workers of Non-Metallic Components, Inc., Rib Lake, Wisconsin, who became totally or partially separated from employment on or after July 18, 2006, through two years from the date of this certification, are eligible to apply for adjustment assistance under Section 223 of the Trade Act of 1974, and are eligible to apply for alternative trade adjustment assistance under Section 246 of the Trade Act of 1974.”

Signed in Washington, DC this 30th day of November 2007.
Elliott S. Kushner,
Certifying Officer, Division of Trade Adjustment Assistance.

[FR Doc. E7-23911 Filed 12-10-07; 8:45 am]

BILLING CODE 4510-FN-P